DEPARTMENT OF TRANSPORTATION

Federal Motor Carrier Safety Administration

Availability of Grant Program Funds for Commercial Driver's License Program Improvements

AGENCY: Federal Motor Carrier Safety Administration (FMCSA), DOT.

ACTION: Notice.

SUMMARY: The Federal Motor Carrier Safety Administration announces the availability of Commercial Driver's License Program Improvement (CDLPI) grant funding as authorized by Section 4124 of the Safe, Accountable, Flexible, Efficient Transportation Equity Act: A Legacy for Users (SAFETEA-LU). The program is a discretionary grant program that provides funding for improving States' implementation of the Commercial Driver's License (CDL) program, including expenses for computer hardware and software, publications, testing, personnel, training, and quality control. Grants to bring States into compliance with the requirements in 49 CFR parts 383 and 384 will receive priority. Grants made under this program may not be used to rent, lease, or buy land or buildings. The agency in each State designated as the primary driver licensing agency responsible for the development, implementation, and maintenance of the CDL program is eligible to apply for grant funding. To apply for funding, applicants must register with the grants.gov Web site (http://www.grants.gov/applicants/get_registered.jsp) and submit an application in accordance with instructions provided. Applications for grant funding must be submitted electronically to the FMCSA through the grants.gov Web site.

DATES: FMCSA will initially consider funding for applications submitted by January 8, 2008, by qualified applicants. If additional funding remains available, applications submitted after January 8, 2008, will be considered on a case-by-case basis. Funds will not be available for allocation until fiscal year 2008 appropriations legislation is passed and signed into law.

FOR FURTHER INFORMATION CONTACT: Visit http://www.grants.gov. Information on the grant, application process, and additional contact information is available at that Web site. General information about the CDLPI grant is available in The Catalog of Federal Domestic Assistance (CFDA) which can be found on the Internet at http://www.cfda.gov. The CFDA number for CDLPI is 20.232. You may also contact Mr. James Davis, Federal Motor Carrier Safety Administration, Office of Safety Programs, Commercial Driver's License Division (MC-ESL), 202-366-6406, 1200 New Jersey Avenue, SE., Suite W65-226, Washington, DC 20590. Office hours are from 8 a.m. to 4:30 p.m., ET, Monday through Friday, except Federal holidays.

William Quade,
Associate Administrator, Enforcement and Policy Program Delivery.

[FR Doc. E7-20487 Filed 10-16-07; 8:45 am]

BILLING CODE 4910-EX-P